DEPARTMENT OF COMMERCE

International Trade Administration

[A-570-943]

Certain Oil Country Tubular Goods From the People's Republic of China: Final Results of Expedited Second Sunset Review of the Antidumping Duty Order

AGENCY: Enforcement and Compliance, International Trade Administration, Department of Commerce.

SUMMARY: As a result of this sunset review, the Department of Commerce (Commerce) finds that revocation of the antidumping duty (AD) order on certain oil country tubular goods (OCTG) from the People's Republic of China (China) would be likely to lead to continuation or recurrence of dumping at the levels indicated in the “Final Results of Sunset Review” section of this notice.

DATES: Applicable July 29, 2020.

FOR FURTHER INFORMATION CONTACT: Moses Song or Natasia Harrison, AD/CVD Operations, Enforcement and Compliance, International Trade Administration, U.S. Department of Commerce, 1401 Street and Constitution Avenue NW, Washington, DC 20230; telephone: (202) 482-7885 or (202) 482-1240, respectively.

SUPPLEMENTARY INFORMATION:

Background

On April 1, 2020, Commerce published a notice of initiation of the second sunset review of the AD order on OCTG from China, pursuant to section 751(c)(2) of the Tariff Act of 1930, as amended (the Act).¹ On April 14, 2020, and April 16, 2020, Commerce received notices of intent to participate in this review from Maverick Tube Corporation (Maverick), Tenaris Bay City, Inc. (Tenaris), IPSCO Tubulars, Inc. (IPSCO), BENTELER Steel/Tube Manufacturing Corp. (BENTELER), United States Steel Corporation (U.S. Steel), Welded Tube USA Inc. (Welded Tube), and Vallourec Star, L.P. (Vallourec) (collectively, domestic interested parties) within the deadline specified in 19 CFR 351.218(d)(1)(i).² The domestic interested parties claimed interested party status under section 771(9)(C) of the Act, as manufacturers of a domestic like product in the United States.

¹ See Initiation of Five-Year (Sunset) Reviews, 85 FR 18189 (April 1, 2020).

² See Maverick, Tenaris, and IPSCO's Letter, “Notice of Intent to Participate in Second Sunset Reviews of the Antidumping and Countervailing Duty Orders on Oil Country Tubular Goods from the People's Republic of China,” dated April 14, 2020; see also U.S. Steel's Letter, “Five-Year (“Sunset”) Review of Antidumping and Countervailing Duty Orders on Oil Country Tubular Goods from China: Notice of Intent to Participate,” dated April 16, 2020; Vallourec and Welded Tube's Letter, “Oil Country Tubular Goods from the People's Republic of China, Second Sunset Review: Notice of Intent to Participate,” dated April 16, 2020; and BENTELER's Letter, “Notice of Intent to Participate in Second Sunset Reviews of the Antidumping and Countervailing Duty Orders on Oil Country Tubular Goods from the People's Republic of China,” dated April 16, 2020.

On May 1, 2020, Commerce received a complete substantive response from the domestic interested parties within the 30-day deadline specified in 19 CFR 351.218(d)(3)(i).³ We received no substantive responses from any respondent interested party, nor was a hearing requested. As a result, pursuant to section 751(c)(3)(B) of the Act and 19 CFR 351.218(e)(1)(ii)(C)(2), Commerce conducted an expedited (120-day) sunset review of the AD order on OCTG from China.

³ See Domestic Interested Parties' Letter, “Oil Country Tubular Goods from the People's Republic of China: Substantive Response of the Domestic Industry to Commerce's Notice of Initiation of Five-Year (“Sunset”) Reviews,” dated May 1, 2020.

Scope of the Order

This AD order covers OCTG. The Issues and Decision Memorandum, which is hereby adopted by this notice, provides a full description of the scope of the order.⁴

⁴ See Memorandum, “Expedited Second Sunset Review of the Antidumping Duty Order on Certain Oil Country Tubular Goods from the People's Republic of China: Issues and Decision Memorandum,” dated concurrently with this notice (Issues and Decision Memorandum).

The Issues and Decision Memorandum is a public document and is on file electronically via Enforcement and Compliance's Antidumping and Countervailing Duty Centralized Electronic Service System (ACCESS). ACCESS is available to registered users at http://access.trade.gov. In addition, a complete version of the Decision Memorandum can be accessed at http://enforcement.trade.gov/frn/. The signed Issues and Decision Memorandum and the electronic version of the Issues and Decision Memorandum are identical in content.

Analysis of Comments Received

In the Issues and Decision Memorandum, we have addressed all issues that parties raised in this review. The issues include the likelihood of continuation or recurrence of dumping in the event of revocation and the magnitude of the dumping margins likely to prevail if Commerce revoked the AD order.

Final Results of Sunset Review

Pursuant to sections 751(c)(1) and 752(c)(3) of the Act, we determine that revocation of the AD order on OCTG from China would be likely to lead to continuation or recurrence of dumping, and that the magnitude of the margins of dumping likely to prevail would be up to 99.14 percent.

Notification to Interested Parties

This notice serves as the only reminder to parties subject to an administrative protective order (APO) of their responsibility concerning the return or destruction of proprietary information disclosed under APO in accordance with 19 CFR 351.305. Timely notification of the return or destruction of APO materials or conversion to judicial protective order is hereby requested. Failure to comply with the regulations and terms of an APO is a violation which is subject to sanction. We are issuing and publishing these results and notice in accordance with sections 751(c), 752(c), and 777(i)(1) of the Act and 19 CFR 351.218.

Dated: July 22, 2020.
Jeffrey I. Kessler,
Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of Dumping

2. Magnitude of the Margin of Dumping Likely to Prevail

VII. Final Results of Sunset Review

VIII. Recommendation

[FR Doc. 2020-16426 Filed 7-28-20; 8:45 am]

BILLING CODE 3510-DS-P